DEPARTMENT OF ENERGY

Federal Energy Regulatory Commission

[Docket No. CP18-534-000]

Northern Natural Gas Company; Notice of Schedule for Environmental Review of the Northern Lights 2019 Expansion and Rochester Projects

On July 27, 2018, Northern Natural Gas Company (Northern) filed an application in Docket No. CP18-534-000 requesting a Certificate of Public Convenience and Necessity pursuant to Section 7(c) of the Natural Gas Act to construct and operate certain natural gas pipeline facilities. The proposal has two major components, known as the Northern Lights 2019 Expansion Project and the Rochester Project, which together would provide approximately 138,504 dekatherms per day of upstream firm natural gas transportation service to serve increased markets for industrial, commercial, and residential uses.

On August 10, 2018, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the projects. This instant notice identifies the FERC staff's planned schedule for the completion of the EA for the projects.

Schedule for Environmental Review

Issuance of EA November 21, 2018

90-day Federal Authorization Decision Deadline February 19, 2019

If a schedule change becomes necessary, additional notice will be provided so that the relevant agencies are kept informed of the Project's progress.

Project Description

The projects consist of new pipeline and compression facilities, all in the state of Minnesota. The Rochester Project component includes 12.6 miles of new 16-inch-diameter pipeline in Olmsted County (Rochester Greenfield Lateral); increase of maximum allowable operating pressure on an 8-mile-long segment of 16-inch-diameter pipeline in Freeborn and Mower Counties; a new town border station in Olmsted County, including a pig receiver; relocation of a regulator from Freeborn to Mower County; and appurtenant facilities, including two valves and a pig launcher at milepost (MP) 0.0 of the Rochester Greenfield Lateral.

The Northern Lights Expansion Project component includes 10.0 miles of new 24-inch-diameter pipeline in Hennepin and Wright Counties; 4.3 miles of new 8-inch-diameter pipeline loop extension in Morrison County; 1.6 miles of new 6-inch-diameter pipeline loop in Le Sueur County; 3.1 miles of new 24-inch-diameter pipeline extension in Carver County; a new 11,153-horsepower (hp) compressor station in Carver County; an additional 15,900 hp of compression at the existing Faribault Compressor Station in Rice County; an additional 15,900 hp of compression at the existing Owatonna Compressor Station in Steele County; and appurtenant facilities, including valves, pig launchers, and pig receivers in Hennepin, Wright, Morrison, Le Sueur, and Carver Counties.

Background

On February 6, 2018, the Commission issued a Notice of Intent to Prepare an Environmental Assessment for the Planned Northern Lights 2019 Expansion Project and Request for Comments on Environmental Issues (NOI). The NOI addressed both the Northern Lights 2019 Expansion and the Rochester Project components, and was issued during the pre-filing review of the projects in Docket No. PF18-1-000 and was sent to affected landowners; federal, state, and local government agencies; elected officials; environmental and public interest groups; Native American tribes; other interested parties; and local libraries and newspapers.

In response to the NOI, the Commission received comments from the U.S. Fish and Wildlife Service, U.S. Department of Agriculture, U.S. Environmental Protection Agency, Minnesota Department of Natural Resources, Minnesota Pollution Control Agency, Minnesota State Historic Preservation Office; one Native American tribe; ten landowners; and one public interest group. The primary issues raised by the commentors were karst terrain, groundwater, surface waterbodies, special status species, property values, local economy, land use, and air quality and noise impacts from construction and operation of pipeline facilities. All substantive comments will be addressed in the EA.

The Minnesota Pollution Control Agency is a cooperating agency in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the projects are available from the Commission's Office of External Affairs at (866) 208-FERC or on the FERC website (www.ferc.gov). Using the “eLibrary” link, select “General Search” from the eLibrary menu, enter the selected date range and “Docket Number” excluding the last three digits (i.e., CP18-534), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: October 9, 2018
Kimberly D. Bose,
Secretary.

[FR Doc. 2018-22383 Filed 10-12-18; 8:45 am]

BILLING CODE 6717-01-P